DEPARTMENT OF THE INTERIOR

Fish and Wildlife Service

[FWS-R3-ES-2009-N0054]; [30120-1113-0000-F6]

Endangered and Threatened Wildlife and Plants; Permits

AGENCY: Fish and Wildlife Service, Interior.

ACTION: Notice of availability of permit applications; request for comments.

SUMMARY: We, the U.S. Fish and Wildlife Service (Service), invite the public to comment on the following applications to conduct certain activities with endangered species. With some exceptions, the Endangered Species Act (Act) prohibits activities with endangered and threatened species unless a Federal permit allows such activity. The Act requires that we invite public comment before issuing these permits. We are also making available for comment an associated environmental assessment (EA) written for each permit application.

DATES: We must receive any written data or comments on or before May 20, 2010.

ADDRESSES: Send written comments by U.S. Mail to the Regional Director, Attn: Peter Fasbender, U.S. Fish and Wildlife Service, Ecological Services, 1 Federal Drive, Fort Snelling, MN 55111-4056, or by electronic mail to permitsR3ES@fws.gov.

FOR FURTHER INFORMATION CONTACT: Mr. Peter Fasbender, (612) 713-5343.

SUPPLEMENTARY INFORMATION:

Background

We invite public comment on the following permit applications for certain activities with endangered species authorized by section 10(a)(1)(A) of the Act (16 U.S.C. 1531 et seq.), and our regulations governing the taking of endangered species in the Code of Federal Regulations at 50 CFR 17. We are also making available for comment an associated EA for each permit application. Submit your written data, comments, or request for a copy of the complete applications and EAs to the address shown in ADDRESSES. Please refer to the permit application numbers below when submitting comments.

On February 8, 2007, we published a final rule that legally established the Western Great Lakes Distinct Population Segment (DPS) of the gray wolf (Canis lupis) and removed Act protection for that DPS at the same time (72 FR 6052). This rule became effective March 12, 2007. However, three parties challenged this final rule by filing a lawsuit. On September 29, 2008, the U.S. District Court for the District of Columbia ruled in favor of the plaintiffs by vacating the final rule, rendering it no longer in effect and remanding it back to us to address the court's concerns. On April 2, 2009, we published a new final rule that responded to the issues raised in the court's decision and again removed Act protection for the Western Great Lakes DPS of the gray wolf (74 FR 15070; effective May 4, 2009). In response to a second legal challenge, we withdrew our April 2, 2009, final rule. We agree with the plaintiffs that sufficient opportunity for public review and comment, as required by Federal law, was not provided before the April 2009 final decision was published. The effect of this withdrawal is reinstatement of Act protections for gray wolves in the Western Great Lakes area while we gather additional public comment. Therefore, gray wolves are now listed as threatened in Minnesota and endangered elsewhere in the western Great Lakes region.

The Wisconsin Department of Natural Resources and Michigan Department of Natural Resources have each applied for a Federal Fish and Wildlife Permit, as described below, to allow their continued management and research of the wolf. In both States, the proposed take of wolves would involve both lethal and nonlethal control for individual wolves involved in depredating livestock, livestock guard animals, and pets. Both States request lethal take authority to abate damages to livestock and pets that result from wolves, and demonstrate the efficacy of control techniques through research since the applicants' ability to control them was negated by the recent relisting of wolves in the Great Lakes States. Under the terms of both permits, wolves captured at depredation sites would be euthanized or released unharmed rather than translocated elsewhere, because:

(a) Virtually all suitable wolf habitat in Michigan and Wisconsin is currently occupied by packs;

(b) Residents do not want problem wolves moved from one area to another; and

(c) Research has shown that some relocated wolves—after being taken out of their element—often die, either slowly by starvation, brutally by being killed by another pack, or by being struck on a highway, while others resume depredation at the relocation site.

Permit Applications

Permit Application Number: TE206840

Applicant: Wisconsin Department of Natural Resources, Madison, Wisconsin.

The applicant requests a permit to take the gray wolf throughout Wisconsin for research, monitoring, and depredation abatement activities. The take would involve both lethal and non-lethal control for wolves involved in depredating livestock, livestock guard animals, and pets. Non-lethal control would involve harassing wolves by using rubber bullets, projectile bean bags, or other scare tactics. Research and monitoring efforts may involve unintentional injury or death to animals caught during the course of these activities, as well as euthanizing live-captured wolves severely affected by mange or other contagious diseases and those severely injured or in very poor condition. The taking is consistent with both the State Management Plan for wolves and our 1992 Recovery Plan for the Eastern Timber Wolf. The scientific research and depredation abatement activities are aimed at the enhancement of survival of the species in the wild.

Permit Application Number: TE219624

Applicant: Michigan Department of Natural Resources, Lansing, Michigan.

The applicant requests a permit to take the gray wolf throughout Michigan. The take would include both lethal and non-lethal control for wolves involved in depredating livestock, livestock guard animals, and pets and is consistent with the 2008 Michigan Wolf Management Plan and the 1992 Recovery Plan for the Eastern Timber Wolf. Non-lethal control would involve harassing wolves by using rubber bullets, projectile bean bags, or other scare tactics. The scientific research and depredation abatement activities are aimed at the enhancement of survival of the species in the wild.

Availability of Documents

To request copies of the permit applications and associated documents, contact Peter Fasbender (see ADDRESSES). The permit applications and the environmental assessments are also available for public inspection at: http://www.fws.gov/midwest/endangered.

Public Availability of Comments

Before including your address, phone number, e-mail address, or other personal identifying information in your comment, you should be aware that your entire comment—including your personal identifying information—may be made publicly available at any time. While you can ask us in your comment to withhold your personal identifying information from public review, we cannot guarantee that we will be able to do so.

All comments we receive become part of our public record. Requests for such comments will be handled in accordance with the Freedom of Information Act and the Council on Environmental Quality's National Environmental Protection Act regulations (40 CFR 1506.6(f)).

National Environmental Policy Act (NEPA)

In compliance with NEPA (42 U.S.C. 4321 et seq.), Environmental Assessments have been completed to evaluate the activities proposed in these permit applications. The Environmental Assessments are also available for review and comment in conjunction with the permit applications.

Authority: 16 U.S.C. 1539(c).

Dated: March 1, 2010.
Lynn M. Lewis,
Assistant Regional Director, Ecological Services, Region 3, Fort Snelling, Minnesota.

[FR Doc. 2010-9022 Filed 4-19-10; 8:45 am]

BILLING CODE 4310-55-P